DEPARTMENT OF COMMERCE

National Oceanic and Atmospheric Administration

Proposed Information Collection; Comment Request; Pacific Islands Region Permit Family of Forms

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 5, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Walter Ikehara, (808) 725-5175, or Walter.Ikehara@noaa.gov.

SUPPLEMENTARY INFORMATION:

I. Abstract

This request is for a revision and extension of a currently approved information collection.

Regulations at 50 CFR 665, Subpart F, require that a vessel must be registered to a valid federal fishing permit to fish with longline gear for Pacific pelagic management unit species (PMUS), land or transship longline caught PMUS, or receive longline caught PMUS from a longline vessel, within the Exclusive Economic Zone (EEZ) of United States (U.S.) islands in the central and western Pacific, to fish with pelagic squid jig gear for PMUS within the Exclusive Economic Zone (EEZ) of United States (U.S.) islands in the central and western Pacific, or to fish with troll and handline gear for PMUS within the EEZ around each of the Pacific Remote Island Areas (PRIA), in areas not prohibited to fishing.

Regulations at 50 CFR parts 665, Subparts D and E, require that the owner of a vessel used to fish for, land, or transship bottomfish management unit species (BMUS) using a large vessel (50 ft or longer) around Guam, fish commercially for BMUS in the EEZ around the Northern Mariana Islands, or use a vessel to fish for BMUS within the EEZ around each of the PRIA, in areas not prohibited to fishing, must register it to a valid federal fishing permit.

Regulations at 50 CFR 665, Subparts B, C, D, and E, require that a vessel used to fish for precious corals within the EEZ of U.S. islands in the central and western Pacific, must be registered to a valid federal fishing permit for a specific precious coral permit area.

The collection is revised by merging currently approved information collections OMB Control Numbers 0648-0584, Northern Mariana Islands Commercial Bottomfish Fishery Permit, 0648-0586, Pacific Islands Crustacean Permit, and 0648-0589, Pacific Islands Pelagic Squid Jig Fishing Permit, into OMB Control No. 0648-0490 Pacific Islands Region Permit Family of Forms. NMFS approved new two-tier processing fees for most permits, resulting in revised cost estimates.

II. Method of Collection

Respondents have a choice of either electronic or paper forms. Methods of submittal include email of electronic forms, or online applications when implemented, and mail and facsimile transmission of paper forms.

III. Data

OMB Control Number: 0648-0490.

Form Number: None.

Type of Review: Regular submission (revision of a currently approved collection).

Affected Public: Business or other for-profit organizations, individuals, or households.

Estimated Number of Respondents: 354.

Estimated Time per Response: Hawaii longline limited entry permits: Renewal on paper application—30 minutes; renewal online—15 minutes; transfer—1 hour, closed area exemption and permit appeals—2 hours; American Samoa longline limited entry permits: Renewal and additional permit application—45 minutes, transfer—1 hour 15 minutes, permit appeals—2 hours; all other permits: Paper—30 minutes, online—15 minutes.

Estimated Total Annual Burden Hours: 169.

Estimated Total Annual Cost to Public: $14,000 in application processing fees and recordkeeping/mailing costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 3, 2017.
Sarah Brabson,
NOAA PRA Clearance Officer.

[FR Doc. 2017-21579 Filed 10-5-17; 8:45 am]

BILLING CODE 3510-22-P